DEPARTMENT OF DEFENSE

Office of the Secretary

Meeting of the Department of Defense Military Family Readiness Council (MFRC); Cancellation

AGENCY: Department of Defense, Office of the Under Secretary of Defense for Personnel and Readiness.

ACTION: Notice of cancellation.

SUMMARY: On August 3, 2011 (76 FR 46756), the Department of Defense Military Family Readiness Council announced a meeting to be held September 19, 2011, from 2 p.m. to 4 p.m. at the Pentagon in Conference Center B6. Pursuant to Section 10(a), Public Law 92-463, as amended, notice is hereby given of a meeting cancellation of the Department of Defense Military Family Readiness Council (MFRC). The purpose of the Council meeting is to review the military family programs which will be the focus for the Council for next year, review the status of warrior care, and address selected concerns of military family organizations.

The September 19, 2011 meeting is cancelled due to non-conformance of the members to hold a quorum.

FOR FURTHER INFORMATION CONTACT: Ms. Melody McDonald or Ms. Betsy Graham, Office of the Deputy Under Secretary (Military Community & Family Policy), 4000 Defense Pentagon, Room 2E319, Washington, DC 20301-4000. Telephones (571) 256-1738; (703) 697-9283 and/or e-mail: FamilyReadinessCouncil@osd.mil.

Dated: September 8, 2011.
Aaron Siegel,
Alternate OSD Federal Register Liaison Officer, Department of Defense.

[FR Doc. 2011-23310 Filed 9-12-11; 8:45 am]

BILLING CODE 5001-06-P